DEPARTMENT OF AGRICULTURE

Rural Utilities Service

Announcement of Grant Application Deadlines and Funding Levels for the Assistance to High Energy Cost Rural Communities Grant Program

AGENCY: Rural Utilities Service, USDA.

ACTION: Notice of Solicitation of Applications (NOSA).

SUMMARY: The Rural Utilities Service (RUS), an agency of the United States Department of Agriculture (USDA), announces the availability of up to $10 million in fiscal year 2015 (FY15) and application deadlines for competitive grants to assist communities with extremely high energy costs. These grants are made available under the authority of section 19 of the Rural Electrification Act, of 1936 as amended (7 U.S.C. 918a) and program regulations at 7 CFR part 1709. Eligibility is limited to communities with average annual residential energy costs exceeding 275 percent of the national average. Grant funds may be used to acquire, construct, extend, upgrade, or otherwise improve energy generation, transmission, or distribution facilities serving eligible communities. Grants may also be used for programs that install on-grid and off-grid renewable energy systems and energy efficiency improvements in eligible communities. This notice describes the eligibility and application requirements, the criteria that will be used by RUS to award funding, and how to obtain application materials.

DATES: You may submit completed grant applications on paper or electronically according to the following deadlines:

• Paper applications must be postmarked and mailed, shipped, or sent overnight, no later than December 14, 2015, or hand delivered to RUS by this deadline, to be eligible under this NOSA. Late or incomplete applications will not be eligible for FY 2015 grant funding.

• Electronic applications must be submitted through Grants.gov no later than midnight December 14, 2015, to be eligible under this notice for FY 2015 grant funding. Late or incomplete electronic applications will not be eligible.

• Applications will not be accepted by electronic mail.

Applications will be accepted upon publication of this notice until midnight (EST) of the closing date of December 14, 2015. If the submission deadline falls on Saturday, Sunday, or a Federal holiday, the application is due the next business day.

ADDRESSES: Copies of the 2015 Application Guide, required forms and other information on the High Energy Cost Grant Program may be obtained by the following:

(1) The program Web site (http://www.rd.usda.gov/programs-services/high-energy-cost-grants) or

(2) Grants.gov (http://www.grants.gov) by searching under Opportunity Number RD- RUS-HECG15; or

(3) Contacting the RUS Electric Programs at (202) 720-9545 to request paper copies of the Application Guides or other materials.

Completed applications may be submitted in the following ways:

• Paper applications are to be submitted to the Rural Utilities Service, Electric Programs, United States Department of Agriculture, 1400 Independence Avenue SW., STOP 1560, Room 5165 South Building, Washington, DC 20250-1560. Applications should be marked “Attention: High Energy Cost Grant Program.”

• Applications may be submitted electronically through Grants.gov. Information on how to submit applications electronically is available on the Grants.gov Web site (http://www.grants.gov). Applicants must successfully pre-register with Grants.gov to use the electronic applications option. Application information may be downloaded from Grants.gov without preregistration.

FOR FURTHER INFORMATION CONTACT: Robin Meigel, Finance Specialist, Rural Utilities Service, Electric Program, Office of Portfolio Management and Risk Assessment, U.S. Department of Agriculture, 1400 Independence Avenue SW., STOP 1568, Room 1274-S, Washington, DC 20250-1568. Telephone (202) 720-9452, Fax (202) 720-1401, email: Robin.Meigel@wdc.usda.gov.

SUPPLEMENTARY INFORMATION:

Contents of This Notice

A. Program Description

B. Federal Award Information

C. Eligibility Information

1. Eligible Applicants

i. Applicants

ii. Substantially Underserved Trust Area Applicants

2. Cost Sharing and Matching

3. Other

i. Eligible Communities

a. High Energy Cost Benchmarks

(1) Extremely High Average Annual Household Expenditure for Home Energy

(2) Extremely High Average per Unit Energy Costs

(3) Supporting Energy Cost Data

(4) Use of Estimated Home Energy Costs

b. SUTA Eligible Communities

ii. Eligible Projects

iii. Limitations on Grant Awards

a. Statutory Limitation on Planning and Administrative Expenses

b. Maximum and Minimum Awards

c. Multiple Applications

d. Ineligible Grant Purposes for High Energy Cost Grants

e. Pre-Award Activities During Environmental Review

D. Application and Submission Information

1. Address To Request Application Package

2. Content and Form of Application Submission

i. Pre-Application

ii. The Application as a Whole

iii. Component Pieces of the Application

a. Part A. Completed Form SF-424, “Application for Federal Assistance”

b. Part B. Project Summary and Eligibility Statement

(1) Applicant Eligibility

(2) Community Eligibility

(3) Project Eligibility

(4) Priority Considerations

(5) Contact Information

c. Part C. Project Narrative Proposal

(1) Table of Contents

(2) Executive Summary

(3) Project Description

(a) Community Eligibility and Assessment of Community Needs

(b) Project Design, Technical Feasibility and Responsiveness to Community Needs

(c) Applicant Organization and Eligibility

(d) Project Management Plan

(e) Organizational Experience

(f) Key Staff Experience

(g) Project Goals, Objectives and Performance Measures

(h) Project Reporting Plan

(i) Project Budget and Financial Capability

(j) Rural Economic Development Initiatives

(k) Priority Considerations

d. Part D. Additional Required Forms and Certifications

e. Part E. Supplementary Materials

f. SUTA Application Package Contents

g. Application Requirements for Applicants Requesting Reconsideration of an Application Submitted in 2014

h. Number of Copies of Submitted Applications

iv. Information That Successful Applicants Must Submit After Notification of Intent To Make a Federal Award

3. Unique Entity Identifier and System for Award Management (SAM)

4. Submission Dates and Times

5. Intergovernmental Review

6. Funding Restrictions

7. Other Submission Requirements

i. Submission of Paper Application Packages

ii. Electronic Submission of Application Packages

E. Application Review Information

1. Criteria

i. Project Design and Technical Merit Criteria

a. Assessment of Community Needs

b. Project Design, Technical Feasibility and Responsiveness to Community Needs

c. Management Plan

d. Organizational Experience

e. Key Staff Experience

f. Project Goals, Objectives and Performance Measures

g. Project Reporting Plan

h. Project Budget, Financial Feasibility and Matching Contributions

i. State, Local, or Tribal Rural Development Initiatives

ii. Priority Considerations

a. High Poverty Areas

b. Rurality

(1) Applications From the Fifty States, and Puerto Rico

(2) Applications From the Virgin Islands and Pacific Insular Areas

c. Renewable Energy Projects

d. Extraordinary Conditions or Circumstances

(1) Disaster

(2) Unserved Energy Needs

(3) Imminent Hazard

(4) Extreme Economic Hardship

e. Substantially Underserved Trust Areas

iii. Cost Sharing (Separate Section)

2. Review and Selection Process

i. Determining Eligibility

ii. Evaluation and Scoring of Eligible Applications

iii. Review and Selection of Applications

3. Notice to Applicants for Certain Grant Awards

4. Anticipated Announcement and Federal Award Dates

5. Appeals

F. Federal Award Administration

1. Federal Award Notices

2. Administrative and National Policy Requirements

i. Environmental Review and Restriction on Certain Activities

ii. Other Federal Requirements

3. Reporting

G. Federal Awarding Agency Contact

H. Other Information

1. Disclosure of Information

2. Civil Rights

Overview

Federal Agency Name: United States Department of Agriculture (USDA), Rural Utilities Service.

Funding Opportunity Title: Assistance to High Energy Cost Rural Communities Program.

Announcement Type: Initial announcement.

Funding Opportunity Number: RD-RUS-HECG15.

Catalog of Federal Domestic Assistance (CFDA) Number: 10.859. The CFDA title for this program is “Assistance to High Energy Cost Rural Communities.”

Dates: Applications must be postmarked and mailed or shipped, or hand delivered to the RUS, or filed with Grants.gov by December 14, 2015.

A. Program Description

The USDA through the Rural Utilities Service (RUS) provides grant assistance for energy facilities, including renewable energy systems and energy efficiency improvements, serving extremely high energy cost communities. This program is authorized by section 19 of the Rural Electrification Act of 1936, as amended (the “RE Act”) (7 U.S.C. 918a). Program regulations are found at 7 CFR part 1709.

This program was established in 2000 to provide assistance for communities most challenged by extremely high energy costs, defined by statute as average annual residential home energy expenditures that are 275 percent or more of the national average. RUS periodically establishes eligibility benchmarks using the most recent home energy data published by the Energy Information Administration. This notice contains the latest updates to these benchmarks. The benchmarks create a high threshold for community eligibility, but small rural communities from all regions of the United States and qualified insular areas have demonstrated eligibility under prior notices.

The purpose of this program is to provide financial assistance for a broad range of energy facilities, equipment and related activities to offset the impacts of extremely high home energy costs on eligible communities. The grants help communities provide basic energy needs. Grant funds may not be used to pay utility bills or to purchase fuel. No funding is available for education and outreach efforts except those associated with project-funded energy facilities, or upgrades. Grant projects under this program must provide community benefits and not be for the primary benefit of an individual applicant, household, or business.

With publication of this notice, USDA is making available up to $10 million in new competitive grants awards under the High Energy Cost Grant Program. This notice describes eligibility and application requirements for these grants. Grants will be awarded competitively based on the selection criteria in Part E of this notice.

Applicants should carefully read this notice and the 2015 Application Guide which contains more detailed information and resources. Applicants must prepare their application packages according to the instructions contained in these documents. The Application Guide is available electronically on the program Web site at http://www.rd.usda.gov/programs-services/high-energy-cost-grants or through Grants.gov, or by request from the Agency contact for further information listed above.

Applicants are advised that the application requirements in this notice and the 2015 Application Guide have been substantially revised from those in the 2014 Notice of Funding Availability published June 2, 2014 and 2014 Application Guide. These changes are in response to new uniform guidance on the content of grant opportunity announcements in 2 CFR part 200, Appendix I.

Reconsideration of 2014 Applications. As provided in program regulations at 7 CFR 1709.122, the Administrator has determined to allow eligible applicants under the 2014 notice that were not selected for an award to be considered under this 2015 announcement by submitting a letter requesting reconsideration and along with any supplemental information, a new signed Form SF-424 (“Application for Federal Assistance”) and a signed Form AD-3030 (“Representations Regarding Felony Conviction and Tax Delinquent Status for Corporate Applicants”). All requests must be submitted in paper format and mailed, shipped, or hand delivered to the addresses shown in section D.7 by the closing date. The reconsidered applications will be scored as provided in this notice. Additional information and application instructions for reconsideration are set out in section D.2.iii.f of this notice.

Substantially Underserved Trust Areas (SUTA). This program is subject to the provisions for Substantially Underserved Trust Areas of 7 U.S.C. 936f and regulations at 7 CFR part 1700, subpart D. This notice provides an additional five points in scoring for applications from eligible underserved trust areas that have been accepted for special consideration by the Administrator. Applicants must submit a timely, complete, and eligible application under this notice and a separate letter and supporting material requesting consideration under SUTA provisions.

Priorities. Under the authority of 7 CFRs 1709.102(b) and 1709.123, this notice establishes several priority scoring criteria to support USDA and RUS policy objectives. Additional points will be awarded for:

• Projects that provide assistance to USDA High Poverty Areas;

• Projects that serve small rural communities;

• Projects that support deployment of renewable energy technologies;

• Projects that address extraordinary circumstances affecting the eligible high energy cost community such as a disaster, imminent hazard, unserved areas, and other economic hardship, and

• Projects that serve Substantially Underserved Trust Areas.

More information is available in section E of this notice.

B. Federal Award Information

The RUS Administrator has established the application and selection requirements under this notice pursuant to and consistent with program regulations at 7 CFR part 1709, the Uniform Administrative Requirements, Cost Principles, and Audit Requirements for Federal Awards at 2 CFR part 200, and 2 CFR part 400 which adopts the Uniform Requirements for USDA awards. The total amount of funds available for high energy cost grants under this notice is up to $10 million. The maximum amount of grant assistance that may be requested or awarded for a grant application under this notice is $3,000,000. The minimum amount of assistance for a grant application under this program is $50,000.

No more than one award will be made per applicant or project. Applicants may submit multiple applications, provided each is for a different project, but only one award per applicant will be approved.

RUS anticipates making multiple awards under this notice. The number of grants awarded will depend on the number of complete applications submitted, the amount of grant funds requested, the quality and competitiveness of applications, and the availability of funds. There were six grant awards under the 2013 notice and awards ranged from $298,029 to $3,000,000. (See the program Web site (http://www.rd.usda.gov/programs-services/high-energy-cost-grants) for summaries of projects previously funded under the program).

The RUS reserves the right not to award all the funds made available under this notice. The final decision to make an award is at the discretion of the Administrator (7 CFR 1709.121). The Administrator will select finalists for grant awards after consideration of the applications, the rankings, comments, and recommendations of the rating panel, and other pertinent information, including availability of funds. Upon such consideration, the Administrator may elect to offer an award of less than the full amount of grant requested by an applicant. All awards will be in the form of grants. Awardees will have to execute a grant agreement with conditions established by the RUS.

Grant project performance periods typically range from one to three years. Grant agreements provide for terms of three years. Approvals of any extensions to this term are at the sole discretion of the agency.

Applicants must provide a complete grant application package with a narrative grant proposal prepared according to the instructions in this notice and Application Guide, and including all required forms and certifications.

Applicants that submitted an application under the 2014 notice and that were notified that their application was eligible, but did not receive funding may request reconsideration under this notice. Applicants may request reconsideration by letter and submit a statement with additional information and required forms. See section D of this notice for more information.

Application Review and Award Selections

All timely submitted and complete applications will be reviewed for eligibility and rated according to the criteria described in this notice. Applications will be ranked in order of their numerical scores on the rating criteria and forwarded to the RUS Administrator. The RUS Administrator is the federal selection official of the competitive awards. The Administrator will review the rankings and the recommendations of the rating panel. The Administrator will select projects in rank order to the extent of available funds.

Funding for Pre-Award Activities

Under 7 CFR 1709.10, grant funds may not be used to pay costs of preparing the application package, or for any finders' fees or incentives for persons or entities assisting in the preparation or submission of an application. Applicants are cautioned that they undertake any pre-award project activities at their own risk. A letter advising the applicant that they have been selected for an award is not a binding commitment to provide funding. The award is only final after the Administrator has signed the grant agreement.

Program regulations provide that RUS will not pay any project construction costs of the project incurred before the date of grant award except as provided in 7 CFR 1709.10. Applicants are also advised that undertaking certain project activities before required environmental review has been completed could result in withdrawal of the selection (7 CFR 1794.15, or its successor).

C. Eligibility Information

1. Eligible Applicants

i. Applicants

Applicant eligibility under this program is established by the Rural Electrification Act of 1936, as amended, (7 U.S.C. 913 and 918a), High Energy Cost Grant Program regulations at 7 CFR 1709.106, and this notice.

An eligible applicant is any one of the following:

• A legally-organized for-profit or nonprofit organization such as, but not limited to, a corporation, association, partnership (including a limited liability partnership), cooperative, or trust;

• A sole proprietorship;

• A State or local government, or any agency or instrumentality of a State or local government, including a municipal utility or public power authority;

• An Indian tribe,¹ a tribally-owned entity, and or Alaska Native Corporation;

¹ As used in the notice an “Indian Tribe” or “tribal” means a Federally recognized Tribe as defined under section 4 of the Indian Self-Determination and Education Assistance Act (25 U.S.C. 450b) to include “* * * any Indian Tribe, band, nation, or other organized group or community, including any Alaska Native village or regional or village corporation as defined in or established pursuant to the Alaska Native Claims Settlement Act [43 U.S.C. 1601 et seq.], that is recognized as eligible for the special programs and services provided by the United States to Indians because of their status as Indians.”

• An individual or group of individuals applying on behalf of unincorporated community associations, and not for the primary benefit of a single household or business (with any award subject to special conditions discussed below); or

• Any of the above entities located in a U.S. Territory or other area authorized by law to participate in programs of the Rural Utilities Service or under the Rural Electrification Act.

All applicants must demonstrate the legal authority and capacity to enter into a binding grant agreement with the Federal Government at the time of the award and to carry out the proposed grant funded project according to its terms to be an eligible applicant. The application must include information and/or documentation supporting your eligibility, legal existence, and capacity to enter into a grant agreement.

Individuals are eligible grant applicants under this program. However, any proposed grant project must provide community benefits and not be for the primary benefit of the individual applicant or and individual household. As a practical matter, because this program addresses community energy needs and to facilitate compliance with Federal grant requirements, individuals will likely find it preferable to establish an independent legal entity, such as a corporation to actually carry out the grant project if they are selected.

Individuals or other applicants who intend to form a new, separate legal entity to carry out the grant project should indicate their intent in their applications. The new entity must be in existence and legally competent to enter into a grant agreement with the Federal Government under appropriate State and Federal laws before a final grant award can be approved.

Corporations that have been convicted of a Federal felony within the past 24 months are not eligible applicants. Any corporation that has any unpaid federal tax liability that has been assessed, for which all judicial and administrative remedies have been exhausted or have lapsed, and that is not being paid in a timely manner pursuant to an agreement with the authority responsible for collecting the tax liability, is not eligible for financial assistance. All corporate applicants must complete Form AD-3030 “Representations Regarding Felony Conviction and Tax Delinquent Status for Corporate Applicants.”

In addition, under program regulations at 7 CFR 1709.7, an outstanding judgment obtained against an applicant by the United States in a Federal Court (other than in the United States Tax Court), which has been recorded, shall cause the applicant to be ineligible to receive a grant or loan under this part until the judgment is paid in full or otherwise satisfied. RUS financial assistance under this part may not be used to satisfy the judgment.

Before submitting an application, all applicants must have an active registration with current information in the System for Award Management (SAM) (previously the Central Contractor Registry (CCR)) at https:\\www.sam.gov and have a Dun and Bradstreet (D&B) Data Universal Numbering System (DUNS) number. For more information on obtaining a DUNS number and SAM registration see section D.3 below.

ii. Substantially Underserved Trust Area Applicants

Consistent with section 306F of the RE Act (7 U.S.C. 936f) and regulations concerning SUTA applications at 7 CFR part 1700, subpart D this notice provides priority scoring for any complete and eligible application from an eligible entity that has been accepted by the Administrator for consideration under SUTA provisions. In addition to establishing that it is an eligible applicant under this notice, SUTA applicants must also establish its eligibility under SUTA regulations at 7 CFR part 1700, subpart D.

The applicant must submit a letter to the RUS Administrator that it is seeking consideration under provisions of 7 CFR part 1700, subpart D and the action that it is requesting. The letter must be accompanied by a copy of the application package submitted in response to this notice. The request must include all information required under the SUTA regulations establishing that its project is for an eligible trust area, documenting its high need for High Energy Cost Grant funds, and identifying the discretionary authorities that it seeks to have applied to its application.

The Administrator will review the request to determine whether the applicant is eligible to receive consideration under SUTA. RUS will notify the applicant in writing whether (1) the application has been accepted to receive special consideration or (2) the application has not been accepted for consideration under the SUTA regulation. If the request is not granted, the applicant may withdraw its application. If the application is still eligible without SUTA consideration and the applicant does not withdraw the application, RUS will review and score the application along with others received under this notice. For more detailed information on how to apply for a grant under SUTA, please refer to the FY 2015 Application Guide available at http://www.rd.usda.gov/programs-services/high-energy-cost-grants.

2. Cost Sharing and Matching

This grant program has no cost sharing or matching funds requirement as a condition of eligibility. However, the RUS will consider other financial resources available to the grant applicant and any voluntary pledge of matching funds or other contributions in assessing the applicant's commitment and financial capacity to complete the proposed project successfully. If a successful applicant proposes to use matching funds or other cost contributions in its project, the grant agreement will include conditions requiring documentation of the availability of the matching funds and actual expenditure of matching funds or cost contributions. RUS may require the applicant to provide additional documentation confirming the availability of any matching contribution offered prior to approval of a project award. If an applicant fails to provide timely documentation of the availability of matching contributions, the RUS may, in its sole discretion, decline to award the project if uncertainties over availability of the match render the project financially unfeasible and impose additional conditions.

3. Other

i. Eligible Communities

To establish community eligibility, the application must (1) clearly identify and define the geographic area that will be included in the grant project and (2) demonstrate that each of the communities in the proposed area meets one or more of the high energy cost benchmarks. Consult the program regulations at 7 CFR part 1709 and the 2015 Application Guide for additional definitions used in this program.

All grant projects must benefit communities with extremely high energy costs. The RE Act defines an extremely high energy cost community as one in which “the average residential expenditure for home energy ² is at least 275 percent of the national average residential expenditure for home energy” 7 U.S.C. 918a. This statutory requirement that community residential expenditures for home energy exceed 275 percent of the national average establishes a very high threshold for eligibility under this program.

² Home energy means any energy source or fuel used by a household for purposes other than transportation, including electricity, natural gas, fuel oil, kerosene, liquefied petroleum gas (propane), other petroleum products, wood and other biomass fuels, coal, wind, and solar energy. Fuels used for subsistence activities in remote rural areas are also included.

RUS periodically establishes community eligibility benchmarks based on the latest available information from the Energy Information Administration (EIA) residential energy surveys. Home energy cost benchmarks are calculated for average annual household energy expenditures; total annual expenditures for individual fuels; annual average per unit energy costs for residential energy sources and are set at 275 percent of the relevant national average household energy expenditures. The current benchmarks are shown in Table 1.

Applicants must demonstrate that proposed communities meet one or more benchmarks to qualify as an eligible beneficiary of a grant under this program. All applications must meet these current eligibility benchmarks for high energy cost. Based on available published information on residential energy costs, RUS anticipates that only those communities with the highest energy costs across the country will qualify.

The EIA's Residential Energy Consumption and Expenditure Surveys (RECS) and reports provide the baseline national average household energy costs that were used for establishing extremely high energy cost community eligibility criteria for this grant program. The RECS data base and reports provide national and regional information on residential energy use, expenditures, and housing characteristics. EIA published its latest available RECS home energy expenditure survey results in 2012. These estimates of home energy usage and expenditures are based on national surveys conducted in 2009 survey data and are shown in Table 1 as follows:

Table 1—National Average Annual Household Energy Expenditures and Extremely High Energy Cost Eligibility Benchmarks Effective for Applications Submitted on or After October 13, 2013
Average Annual Household Expenditure: Fuel | Average Annual Household Expenditure: EIA 2009 national annual average household expenditure: $ per year | Average Annual Household Expenditure: RUS extremely high energy cost benchmark (275% of national average): $ per year
Electricity | $1,340 | $3,685
Natural Gas | 804 | 2,211
Fuel Oil | 1,338 | 3,680
LPG/Propane | 972 | 2,673
Total Household Energy Use | 2,024 | 5,566
Annual Average Per Unit Residential Energy Costs
Fuel | EIA 2009 national average unit cost | RUS extremely high energy cost benchmark (275% of national average)
(units) | $ per unit | $ per unit
Electricity (Kilowatt hours) | $.12 | $.33
Natural Gas (thousand cubic feet) | 12.18 | 33.50
Fuel Oil (gallons) | 2.42 | 6.68
LPG/Propane (gallons) | 2.09 | 5.76
Kerosene (gallons) | 2.72 | 7.49
Total Household Energy (million Btus) | 22.59 | 62.12
Sources: Energy Information Administration, United States Department of Energy, 2009 Residential Energy Consumption Survey Data—Detailed Tables, available at: http://www.eia.gov/consumption/residential/data/2009/.

Extremely high energy costs in rural and remote communities typically result from a combination of factors including high energy consumption, high per unit energy costs, limited availability of energy sources, extreme climate conditions, and housing characteristics. The relative impacts of these conditions exhibit regional and seasonal diversity. Market factors have created an additional complication in recent years as the prices of the major commercial residential energy sources—electricity, fuel oil, natural gas, and LPG/propane— have fluctuated dramatically in some areas.

The applicant must demonstrate that each community in the grant project's proposed area exceeds one or more of these high energy cost benchmarks to be eligible for a grant under this program.

a. High Energy Cost Benchmarks.

The benchmarks measure extremely high energy costs for residential consumers. These benchmarks were calculated using EIA's estimates of national average residential energy expenditures per household and by primary home energy source. The benchmarks recognize the diverse factors that contribute to extremely high home energy costs in rural communities. The benchmarks allow extremely high energy cost communities several alternatives for demonstrating eligibility. Communities may qualify based on: Total annual household energy expenditures; total annual expenditures for commercially-supplied primary home energy sources, i.e., electricity, natural gas, oil, or propane; or average annual per unit home energy costs. By providing alternative measures for demonstrating eligibility, the benchmarks reduce the burden on potential applicants created by the limited public availability of comprehensive data on local community energy consumption and expenditures.

A community or area will qualify as an extremely high cost energy community if it meets one or more of the energy cost eligibility benchmarks described below.

(1) Extremely High Average Annual Household Expenditure for Home Energy. The area or community exceeds one or more of the following:

• Average annual residential electricity expenditure of $3,685 per household;

• Average annual residential natural gas expenditure of $2,211 per household;

• Average annual residential expenditure on fuel oil of $3,680 per household;

• Average annual residential expenditure on propane or liquefied petroleum gas (LPG) as a primary home energy source of $2,673 per household; or

• Average annual residential energy expenditure (for all non-transportation uses) of $5,566 per household.

(2) Extremely High Average per Unit Energy Costs. The average residential per unit cost for major commercial energy sources in the area or community exceeds one or more of the following:

• Annual average cost per kilowatt hour for residential electricity customers of $0.33 per kilowatt hour (kWh);

• Annual average residential natural gas price of $33.50 per thousand cubic feet;

• Annual average residential fuel oil price of $6.68 per gallon;

• Annual average residential price of propane or LPG as a primary home energy source of $5.76 per gallon;

• Annual average residential price of Kerosene as a primary home energy source of $7.49 per gallon or

• Total annual average residential energy cost on a Btu basis of $62.12 per million Btu.³

³ Note: Btu is the abbreviation for British thermal unit, a standard energy measure. A Btu is the quantity of heat needed to raise the temperature of one pound of water 1 degree Fahrenheit at or near 39.2 degrees Fahrenheit.

(3) Supporting Energy Cost Data. The applicant must include information that demonstrates its eligibility under RUS's high energy cost benchmarks for the communities and areas. The applicant must supply documentation or references for its sources for actual or estimated home energy expenditures or equivalent measures to support eligibility. Generally, the applicant will be expected to use historical residential energy cost or expenditure information for the local energy provider serving the community or area to determine eligibility. Other potential sources of home energy related information include Federal and State agencies, local community energy providers such as electric and natural gas utilities and fuel dealers, and commercial publications. The Application Guide includes a list of EIA resources on residential energy consumption and costs that may be of assistance.

The grant applicant must establish eligibility for each community in the project's area. To determine eligibility, the applicant must identify each community included in whole or in part within the areas and provide supporting actual or estimated energy expenditure data for each community. The smallest area that may be designated as an area is a 2010 Census block. This minimum size is necessary to enable a determination of population size.

Potential applicants can compare the benchmark criteria to available information about local energy use and costs to determine their eligibility. Applicants should demonstrate their eligibility using historical energy use and cost information. Where such information is unavailable or does not adequately reflect the actual costs of supporting average home energy use in a local community, RUS will consider estimated commercial energy costs. The Application Guide includes examples of circumstances where estimated energy costs are used.

EIA does not collect or maintain data on home energy expenditures in sufficient detail to identify specific rural localities as extremely high energy cost communities. Therefore, grant applicants will have to provide information on local community energy costs from other sources to support their applications.

In many instances, historical community energy cost information can be obtained from a variety of public sources or from local utilities and other energy providers. For example, EIA publishes monthly and annual reports of residential prices by State and by service area for electric utilities and larger natural gas distribution companies. Average residential fuel oil and propane prices are reported regionally and for major cities by government and private publications. Many State agencies also compile and publish information on residential energy costs to support State programs.

(4) Use of Estimated Home Energy Costs. Where historical community energy cost data are incomplete or lacking or where community-wide data does not accurately reflect the costs of providing home energy services in the area, the applicant may substitute estimates based on engineering standards. The estimates should use available community, local, or regional data on energy expenditures, consumption, housing characteristics and population. Estimates are also appropriate where the area does not presently have centralized commercial energy services at a level that is comparable to other residential customers in the State or region. For example, local commercial energy cost information may not be available where the area is without local electric service because of the high costs of connection. Engineering cost estimates reflecting the incremental costs of extending service could reasonably be used to establish eligibility for areas without grid-connected electric service. Estimates also may be appropriate where historical energy costs do not reflect the cost of providing a necessary upgrade or replacement of energy infrastructure to maintain or extend service that would raise costs above one or more benchmarks. Information to support high energy cost eligibility is subject to independent review by RUS.

Applications that contain information that is not reasonably based on credible sources of information and sound estimates will be rejected.

Where appropriate, RUS may consult standard sources to confirm the reasonableness of information and estimates provided by an applicant in determining eligibility, technical feasibility, and adequacy of proposed budget estimates.

b. SUTA Eligible Communities.

In addition to meeting extremely high energy cost and other criteria in this notice, applicants requesting consideration under SUTA must also establish their eligible community is in a substantially underserved trust area under the provisions of 7 CFR part 1700, subpart D. Applicants should consult SUTA regulations at 7 CFR part 1709 subpart D for additional information on eligibility and qualifications of “trust lands” and of “substantially underserved trust areas.” Potential SUTA applicants are encouraged to consult with the Agency Contacts listed in this notice in preparation of their requests for consideration.

The determination of SUTA eligibility will be made by the Administrator before applications are scored and ranked.

ii. Eligible Projects

Eligible projects must serve an eligible community and must include only eligible grant purposes. Grant funds may be used to acquire, construct, extend, upgrade, or otherwise improve energy generation, transmission, or distribution facilities serving eligible communities. All energy generation, transmission, and distribution facilities and equipment, used to provide electricity, natural gas, home heating fuels, and other energy service to eligible communities are eligible. Projects providing or improving energy services to eligible communities through on-grid and off-grid renewable energy projects, energy efficiency, and energy conservation projects are eligible. A grant project is eligible if it improves, or maintains energy services, or reduces the costs of providing energy services to eligible communities.

Funds may cover up to the full costs of any eligible projects subject to the statutory condition that no more than 4 percent of grant funds may be used for the planning and administrative expenses of the grantee.

The project must serve communities that meet the extremely high energy cost eligibility requirements described in this notice. The applicant must demonstrate that the proposed project will benefit the eligible communities. Projects that primarily benefit a single household or business are not eligible. Additional information and examples of eligible project activities are contained in the 2015 Application Guide.

The program regulations at 7 CFR part 1709 provide more detail on allowable use of grant funds, limitations on grant funds, and ineligible grant purposes. Grant funds may not be used to refinance or repay the applicant's outstanding loans or loan guarantees under the RE Act.

Each grant applicant must demonstrate the economic and technical feasibility of its proposed project. Activities or equipment that would commonly be considered as research, development, or demonstration, or commercialization activities are not eligible. Projects for deploying new energy technologies that are not in established commercial use will not be considered as technologically feasible projects and would, thus, be ineligible grant purposes. However, grant funds may be used for projects that involve the innovative use or adaptation of energy-related technologies that have been commercially proven. RUS, in its sole discretion, will determine if a project consists of ineligible research, development, demonstration, or commercialization activities or relies on unproven technology, and that determination shall be final.

iii. Limitations on Grant Awards

a. Statutory Limitation on Planning and Administrative Expenses.

Section 19(b)(2) of the RE Act provides that no more than 4 percent of the grant funds for any project may be used for planning and administrative expenses of the grantee not directly related to delivery of the project. RUS will not make awards for any such expenses exceeding 4 percent of grant funds. Because of this limitation, applicants must detail any indirect costs.

b. Maximum and Minimum Awards.

For High Energy Cost Grants, the maximum amount of grant assistance that will be considered for funding per grant application under this notice is $3,000,000. The minimum amount of assistance for a competitive grant application under this program is $50,000.

c. Multiple Applications.

Eligible applicants must include only one project per application, but the project can include many locations. Applicants may submit applications for multiple projects. For high energy cost grants, no more than $3 million in grant funds will be awarded per project application. An applicant will only be awarded funding for one project under this notice. The award will be made to the highest ranked application submitted; other applications from the same applicant or project will remain unfunded under this notice.

d. Ineligible Grant Purposes for High Energy Cost Grants.

Grant funds cannot be used for: Preparation of the grant application, fuel purchases, routine maintenance or other operating costs, and purchase of equipment, structures, or real estate not directly associated with provision of residential energy services. In general, grant funds may not be used to support projects that primarily benefit areas outside of eligible communities. However, grant funds may be used to finance an eligible community's proportionate share of a larger energy project.

Consistent with USDA policy and program regulations, grant funds awarded under this program generally cannot be used to replace other USDA assistance or to refinance or repay outstanding loans under the RE Act. Grant funds may, however, be used in combination with other USDA assistance programs including electric loans. Grants may be applied toward grantee contributions under other USDA programs depending on the specific terms of those programs. For example, an applicant may propose to use grant funds to offset the costs of electric system improvements in extremely high cost areas by increasing the utility's contribution for line extensions or system expansions to its distribution system financed in whole or part by an electric loan under the RE Act. An applicant may propose to finance a portion of an energy project for an extremely high energy cost community through this grant program and secure the remaining project costs through a loan or loan guarantee from RUS or other grant sources. The determination of whether a project will be completed in this manner will be made solely by the Administrator.

e. Pre-award Activities during Environmental Review.

RUS may refuse to provide an award where the selected applicant has taken actions in violation of restrictions on certain project activities prior to completion of pre-award environmental review. See section F.2.ii of this notice and 7 CFR 1794.15, or its successor.

D. Application and Submission Information

All applications must be prepared and submitted in compliance with this notice and the 2015 Application Guide. The Application Guide contains additional information on the grant programs, sources of information for use in preparing applications, examples of eligible projects, and copies of the required application forms.

1. Address To Request Application Package

The FY 2015 Application Guide, copies of required forms, and other information on the High Energy Cost Grant Program are available from these sources:

a. The Internet at the program Web site: http://www.rd.usda.gov/programs-services/high-energy-cost-grants;

b. Through Grants.gov (http://www.Grants.gov) under CFDA No. 10.859);

c. By request from Robin Meigel, Finance Specialist, Rural Utilities Service, Electric Program, Office of Portfolio Management and Risk Assessment, United States Department of Agriculture, 1400 Independence Avenue SW., STOP 1568, Room 1274-S, Washington, DC 20250-1568. Telephone (202) 720-9452, Fax (202) 720-1401, email: Robin.Meigel@wdc.usda.gov.

2. Content and Form of Application Submission

Applicants must follow the directions in this notice and the 2015 Application Guide in preparing and submitting their application packages.

i. Pre-Application

This program does not require or accept pre-applications. This program is not subject to E.O. 12372 “Intergovernmental Review of Federal Programs” as implemented by USDA.

ii. The Application as a Whole

Application packages must be prepared consistent with the requirements of this notice, the 2015 Application Guide and program regulations at 7 CFR 1709.117. Applicants are encouraged to consult the recently updated Uniform Administrative Requirements, Cost Principles, and Audit Requirements For Federal Awards, 2 CFR part 200 for additional requirements applicable to grants under this program. Application packages that do not comply with the eligibility and content provisions of this notice will be rejected. As used in this notice “narrative” means a written statement, description or other written material prepared by the applicant, for which no form exists.

Format. The completed application package should be assembled in the order specified in section D.2.iii below with all pages numbered sequentially or by section. Application narratives and attachments should be formatted for 8½ by 11 inch paper (letter size) with 1 inch margins. Preferred type faces are Times New Roman12, Calibri 11, Arial 11, Verdana 10 or Courier 10. Narratives may be single or double spaced. It is strongly recommended that Project Narratives be no longer than about 30 pages in length or less (exclusive of required forms and Project Summary) with up to 10 pages of attachments. Paper application packages will be scanned and should be printed single-sided on white letter size paper. Electronic applications must follow formatting directions, including acceptable file attachment types, specified on Grants.gov. Failure to follow these instructions may result in rejection of the application.

Number of copies. A complete application submission package consists of one original application with original signatures on all forms and certifications and two copies.

iii. Component Pieces of the Application

The completed application consists of the following sections and forms. Narrative sections should be formatted as indicated above and assembled in the sequence specified. Table 2 lists the required content and form of a complete application. Applicants may use this table to assure that their applications are complete and assembled in order.

Table 2—Required Content and Form of Application Package
Component pieces of the application. Complete Applications must include all listed sections, forms, and certifications in the order shown in this table.
Part A. Completed Form SF-424 “Application for Federal Assistance.”
Part B, Project Summary and Eligibility Statement (up to 3 pages total).
Part C. Project Narrative Proposal.
(1) Table of Contents.
(2) Executive Summary (1 page).
(3) Project Description (up to about 30 pages).
(a) Community Eligibility and Assessment of Community Needs.
(b) Project Design, Technical Feasibility and Responsiveness to Community Needs.
(c) Applicant Organization and Eligibility.
(d) Project Management Plan.
(e) Organizational Experience.
(f) Key Staff Experience.
(g) Project Goals, Objectives and Performance Measures.
(h) Project Reporting Plan.
(i) Project Budget and Financial Capability, accompanied by SF-424A, “Budget Information—Non-Construction Programs,” or SF-424C “Budget Information—Construction Programs,” as applicable.
(j) Rural Economic Development Initiatives.
(k) Priority Considerations.
Part D. Additional Required Forms and Certifications.
Form SF-424B, “Assurances—Non-Construction Programs” or Form SF-424D, “Assurances—Construction Programs.”
Form SF-LLL, “Disclosure of Lobbying Activities.”
Form AD-3030 “Representations Regarding Felony Conviction and Tax Delinquent Status for Corporate Applicants” (Applications from Corporations only).
Rural Utilities Service “Certification Regarding Debarment, Suspension and Other Responsibility Matter—Primary Covered Transactions.”
RUS Environmental Questionnaire.
Part E. Supplementary Materials (up to 10 pages).

a. Part A. Completed Form SF-424, “Application for Federal Assistance.”

This form must be signed by a person authorized to submit the proposal on behalf of the applicant. Note: All applicants, except individuals, must include a DUNS number on the SF-424 to be considered complete. See section D.3 for information on obtaining a DUNS Number. Copies of this form are available through the RUS's Web site (http://www.rd.usda.gov/programs-services/high-energy-cost-grants) or through Grants.gov, or by request from the Agency contact listed in section D.1 above.

b. Part B, Project Summary and Eligibility Statement.

The Project Summary and Eligibility Statement is a short narrative that establishes the application's eligibility. It describes the applicant, the eligible high energy cost community, the proposed project, and any requested priority considerations. The Project Summary should be no longer than three (3) pages.

In Part B applicants must provide a brief summary of the project proposal. The project must be described in sufficient detail to establish that it is an eligible project under the High Energy Cost Grant Program, program regulations (7 CFR part 1709) and this notice. Applicants should take great care in preparing this section to include all elements listed below. RUS will make an initial determination of eligibility and whether to accept the application for further review and scoring based on the contents of this project summary. Application packages that do not meet eligibility requirements will be rejected.

Part B will not be scored so applicants must also include any information on eligibility or priority scoring in the full project narrative proposal.

Part B must include the following information.

(1) Applicant Eligibility.

This section of Part B must briefly describe the applicant, its capabilities, and provides information demonstrating that the applicant is an eligible entity under program regulations at 7 CFR 1709.106 and this notice. Applicants must also be free of any debarment or other restriction on their ability to contract with the Federal government as identified in section C.1.a of this notice.

(2) Community Eligibility.

This summary must describe the eligible community or communities to be served by the project including name, location, and population based on 2010 Census. It must also provide the name and population of the local government division (e.g., city, town or county for unincorporated areas) where the project is located. It must specifically identify the average community residential energy costs that exceed one or more of the benchmark criteria for extremely high energy costs as described in this notice. Local energy providers and sources of high energy cost data and estimates should be clearly identified. The Application Guide includes additional information and sources that the applicant may find useful in establishing community eligibility.

(3) Project Eligibility.

This section provides a brief overview of the project including the project title, total project costs, the amount of grant funds requested, amount and source of matching contributions, major project goals and tasks, and the location of project activities and facilities to be supported with grant funds. It should indicate the proposed project duration. It must state how the grant project will provide benefits to the eligible community and offset or reduce the target community's extremely high energy costs. The summary should briefly identify any state or tribal rural development initiative that the project supports.

(4) Priority Considerations.

Applicants should indicate all Priority Considerations for which they are seeking additional points in project scoring. Priority points to be awarded under this notice are set forth in section E.1.

(5) Contact Information.

The project summary should list the Applicant's name, address, telephone number, fax, and email address and contact person for the application. Include the contact person's address, telephone number, fax and email address if different from the applicant.

c. Part C. Project Narrative Proposal.

The project narrative proposal describes in detail the proposed grant project, the project benefits, and the proposed budget. Part C follows sequentially after Parts A and B in assembling the package and contents should be assembled and paginated in the order described below.

In preparing the project narrative proposal, Applicants must address individually and in narrative form each of the proposal evaluation and selection criteria contained in section E.1 of this notice. The project narrative proposal of eligible applications will be scored competitively and the results used to rank applications for awards.

Format and length. The narrative proposal should be formatted according to the instructions in section D.2.ii. Applicants are strongly encouraged to keep the narrative proposal to no longer than approximately 30 pages, exclusive of required forms. Successful application narratives have been shorter in length. Applicants may use the Supplementary Materials section to include up to ten (10) pages of letters of support and other information for reviewers. Letters from Members of Congress and senior State government officials will not count against this page limit.

The project narrative proposal includes the following sections assembled in the order indicated.

(1) Table of Contents.

Part C of the application package must include a Table of Contents immediately before the Executive Summary. The Table of Contents must provide page numbers for all sections, forms, and supplemental materials. The Table of Contents will help reviewers assure that all submitted materials are included in the application package and in correct, intended order. This section will not be scored or counted against any suggested page limits.

(2) Executive Summary.

The Executive Summary is a one page introduction to the project that briefly identifies the applicant, project title, amount of grant funds requested, eligible communities, the activities and facilities to be supported, and how the grant project will benefit the community and offset or reduce the community's extremely high energy costs. Any priority considerations requested should be listed. The Executive Summary will be used to prepare any project descriptions or announcements and should list a key contact person for the application with telephone and fax numbers, mailing address and email address. The Executive Summary is a required component of the application (7 CFR 1709.117(b)(1)), but will not be scored. The Executive Summary immediately follows the Table of Contents.

(3) Project Description.

The narrative project description should be no longer than about 30 pages in total and should be prepared using the formatting instructions above in section D.2.ii.

(a) Community Eligibility and Assessment of Community Needs.

The Applicant must describe the community or communities to be served by the grant and provide supporting information establishing eligibility. The narrative must show that the proposed grant project's target area or areas are located in one or more communities where the average annual residential energy costs exceed one or more of the benchmark criteria for extremely high energy costs as described in section C3 and Table 1 of this notice. The narrative must clearly identify the location and population of the areas to be aided by the grant project and their energy costs. It must also include the population of the local government division in which each community is located. Local energy providers and sources of high energy cost data and estimates must be clearly identified. Neither the applicant nor the project must be physically located in the extremely high energy cost community, but the funded project must serve an eligible community.

The population estimates should be based on the 2010 Census available from the U.S. Census Bureau. Additional information and exhibits supporting eligibility and community energy sources may be obtained from the U.S. Census, the Energy Information Administration, other Federal and State agencies, or private sources. The Application Guide provides additional information and sources that are useful in establishing community eligibility.

The Applicant must identify and analyze the major challenges that the eligible community faces and how their extremely high energy costs impair their ability to meet these needs or adversely affect other aspects of community wellbeing. The Applicant may, for example, describe how socioeconomic, environmental, or public policy considerations may affect the community's ability to meet its energy needs or influence the choices that they may make.

The Applicant must describe how the proposed grant project is responsive to the identified community challenges or needs by, for example, providing or improving critical energy infrastructure or offsetting or reducing the impacts of high energy costs on community residents through energy efficiency improvements. In providing community information, Applicants should bear in mind that they are presenting a case that their project community should be ranked higher than competing similar projects.

In analyzing community needs, Applicants should address any community characteristics or extraordinary conditions that reviewers should consider in weighing need for assistance. In particular, the narrative should address any circumstances that may qualify the application for one or more of the priority scoring considerations established in section E of this notice. Priority considerations include high poverty areas, rurality, renewable energy, extraordinary conditions or circumstances, and Substantially Underserved Trust Areas.

(b) Project Design, Technical Feasibility and Responsiveness to Community Needs.

The narrative must describe the proposed project in sufficient detail to establish that it is an eligible project under program regulations at 7 CFR 1709.109 to 1709.111, the Uniform Administrative Requirements, Cost Principles, and Audit Requirements for Federal Awards at 2 CFR part 200, and this notice.

The applicant must describe the project design, construction, materials, equipment, and associated activities in sufficient detail to support a conclusion by reviewers of the project's eligibility and technical feasibility as required by program regulations 7 CFR 1709. 117 and this notice. Proposed projects involving construction, repair, replacement, or improvement of electric generation, transmission, and distribution facilities must generally be consistent with the standards and requirements for projects financed with loans and loan guarantees under the RE Act as set forth in RUS's Electric Programs Regulations and Bulletins and may reference these requirements.

The Applicant's proposed scope of work must include major tasks to be performed, any services to be provided directly to beneficiaries, a proposed timeline for completing each task; and an estimate of the overall project duration.

The application must identify the location of the project target area with the eligible extremely high energy cost communities to be served, and the locations, if any, outside of these areas where project funded activities will be conducted.

In describing the project plan and schedule, applicants must specifically identify any regulatory and other approvals required by Federal, State, local, or tribal agencies, or by private entities (as a condition of financing), that are necessary to carry out the proposed grant project. The Applicant must provide an estimated schedule for obtaining the necessary approvals. Prior to the obligation of any funds for the selected proposals, applicants will be required to gather specific information in order for RUS to comply with the National Environmental Policy Act of 1969 (NEPA) and National Historic Preservation Act (NHPA), for which the provision of funding is considered an undertaking subject to review. The environmental information that must be supplied by the applicant can be found in the RUS Environmental Questionnaire in the application materials.

Finally, the Applicant must address how the project responds to the community needs identified in its assessment and analysis of community needs above.

(c) Applicant Organization and Eligibility.

In this section the applicant must describe its organizational structure and capacity to carry out the project according to its proposed terms and consistent with Federal requirements. The Applicant must establish that it is an eligible applicant under this program as provided in section C.1.a above. Additionally, the Applicant must establish that it and its project are located in the United States, its territories, or an eligible insular area.

The narrative and supporting documentation must describe the applicant entity and establish its eligibility consistent with regulations at 7 CFR part 1709 and this notice. The description must include the entity's organizational structure, ownership, when it was established, where it operates, sources of funding, whether it is regulated, and identify any subsidiaries, affiliates, or parent entities. The applicant must describe its financial management system that it will use for grant activities. Finally, the applicant must demonstrate that it has or will have the legal authority to enter into a financial assistance relationship with the Federal Government. Examples of supporting evidence of applicant's legal existence and eligibility include: A reference to or copy of the relevant statute, regulation, executive order, or legal opinion authorizing a State, local, or tribal government program, articles of incorporation or certificates of incorporation or good standing for corporate applicants, partnership or trust agreements, and board resolutions. These documents will not be counted towards any page limitation and should be included at the end of the Application Package. Applicants must also be free of any debarment or other restriction on their ability to contract with the Federal Government or receive a Federal grant.

(d) Project Management Plan.

This section must provide a narrative describing the applicant's management structure, capabilities, and project performance plans. The application must include a description of the entity's organizational structure, method of funding, legal authority, key executives, project management experience, and financial management systems. Financial statements and other supporting documentation about applicant eligibility, experience, financial and legal capacity to carry out the project may be referenced here.

The applicant must describe how and by whom the project will be managed during construction and all phases of operation. The description must include the applicant's project management structure, key project personnel, and the degree to which applicant's full time employees, affiliated entities or contractors will be used to complete project tasks and provide any services to beneficiaries. The applicant must provide the identities, legal relationships, qualifications and experience of those persons that will perform project management functions. If the applicant proposes to use equipment or design, construction and other services from non-affiliated entities, the application must describe how it plans to contract for such equipment or services.

The applicant must describe the identities, relationship, qualifications, and experience of these affiliated and contracted entities. The experience and capabilities of these affiliated and/or contracted entities will be reviewed by the rating panel.

Applicants are encouraged to review the financial management requirements for Federal grantees in 7 CFR part 1709 and government-wide financial assistance regulations at 2 CFR part 200, and to address their ability to comply with these requirements in their applications.

Overall, this section should provide information that will support a finding that the overall combination of management experience, financial management capabilities, resources and project structure will enable successful completion of the project.

(e) Organizational Experience.

This subsection should include a detailed description of the applicant's relevant experience and that of any other organization that will carry out the proposed projects. Information should be included on past projects, success rates, long-term results, and community and individual consumer benefits. If the applicant has received any prior High Energy Cost Grants or other Federal funding, a detailed description of these awards and past performance is required in this section.

(f) Key Staff Experience.

The application must identify all key project staff and provide brief experience and qualifications descriptions. If the applicant proposes to use affiliated entities, contractors, or subcontractors to provide services funded under the grant, the applicant must describe the identities, relationship, qualifications, and experience of these affiliated entities. The rating panel will consider the experience and capabilities of these entities in scoring the proposal. If the application is selected for funding, key personnel provisions may be included in the grant agreement as a condition of the award.

(g) Project Goals, Objectives and Performance Measures.

Federal grant regulations provide that each grant award must include establishment of performance goals defined as “a target level of performance expressed as a tangible, measurable objective, against which actual achievement can be compared” (2 CFR 200.76. See also 2 CFRs 200.301, and 200.308 and 7 CFR1709.117).

In this section the applicant must explain how the project addresses the energy needs of the community and must clearly identify appropriate proposed measures of project performance and success. Measures of performance might include percent completion of construction projects over the proposed schedule. Objectives or measures of benefits might include, for example, expected reductions in home or community energy costs, avoided cost increases, enhanced reliability, or economic or social benefits from improvements in energy services available to the community. The applicant should include quantitative estimates of cost or energy savings and other benefits. The applicant should provide documentation or references to support its projections of cost-effectiveness savings and improved services.

(h) Project Reporting Plan.

The applicant must include a proposed progress reporting plan describing how it plans to measure, monitor, and report on the effectiveness of the project in delivering its projected benefits and on any significant developments or challenges that arise during project performance. RUS will use these proposed performance measures and reporting plans to establish the performance measures incorporated in the grant agreement in the event the proposal is selected for an award. These suggested performance criteria are not binding on the Agency.

(i) Project Budget and Financial Capability.

In this subsection the applicant must present its proposed project budget for the full term of the project and also provide information about its own financial capability to support the project and manage it in compliance with requirements for Federal assistance.

The budget narrative must provide a detailed breakdown of all estimated costs and allocate these costs among the listed tasks in the work plan. The narrative and budget exhibits and forms must itemize and explain major proposed project cost components such as, but not limited to, the expected costs of design and engineering and other professional services, personnel costs (salaries/wages and fringe benefits), equipment, materials, property acquisition, travel (if any), and other direct costs, and proposed recovery of indirect costs, if any. The budget must document that planned administrative and other expenses of the project sponsor that are not directly related to performance of the grant will not total more than 4 percent of grant funds.

The applicant must explain the basis for any cost estimates. A pro forma operating budget for the three years of operations must be included as an exhibit in this section.

The applicant must clearly identify the source and amount of any other Federal or non-Federal contributions of funds or services that will be used to support the proposed project, including any program income.

The detailed budget narrative must be accompanied by SF-424A, “Budget Information—Non-Construction Programs,” or SF-424C “Budget Information—Construction Programs,” as applicable. All applicants that submit applications through Grants.gov must use SF-424A.

Consistent with the requirements of 2 CFR 200.205, the RUS must review the financial risk posed by applicants. In support of this review, applicants must provide additional narrative regarding the financial capability of their organization including, for example:

(1) Financial stability;

(2) Quality of management systems and ability to meet the management standards prescribed under Federal grant regulations in 2 CFR part 200;

(3) History of performance in managing any other Federal awards, including timeliness of compliance with applicable reporting requirements, conformance to the terms and conditions of previous Federal awards, and if applicable, the extent to which any previously awarded amounts will be expended prior to future awards;

(4) Reports and findings from audits performed for other Federal assistance under 2 CFR part 200, subpart F—Audit Requirements or the reports and findings of any other available audits; and/or

(5) Any contracts with certain parties that are debarred, suspended or otherwise excluded from or ineligible for participation in Federal programs or activities.

Applicants may cross reference relevant discussions elsewhere in the application in support of their financial stability and financial management capability.

(j) Rural Economic Development Initiatives.

The Applicant must address how the project will support rural economic development in the target area. The narrative must describe whether and how the proposed project will support any rural economic development initiatives funded by, or carried out in cooperation with, a State or local agency, or an Indian Tribe as required by 7 CFR 1709.117(b)(11). If the project supports a rural development initiative, the application should include confirming documentation from the appropriate rural development agency. The application must identify the extent to which its proposed project performance is dependent upon or tied to other rural development initiatives, funding, or approvals. If the project is independent of and not coordinated with a State or Tribal rural development initiative, the applicant should clearly indicate this. Project narratives that do not address this requirement will receive zero points under this evaluation criterion.

(k) Priority Considerations.

The Administrator has approved certain priority considerations in scoring and ranking applications consistent with program regulations at 7 CFR 1709.123. These priority scoring considerations and points to be awarded are described in Section E of this notice. In order to assure that applicants receive all of the priority points for which they are eligible, this section should identify each priority consideration that the Applicant is requesting and provide a brief statement of the circumstances that make them eligible for the priority criterion. Applicants may cross reference more detailed information elsewhere in the application package. Applicants should carefully read section E on scoring priority considerations before writing this section. Priority will be awarded for the following:

• High Poverty Communities;

• Rurality (population);

• Renewable Energy Projects;

• Extraordinary conditions/circumstances such as a disaster, imminent hazard, unserved areas, severe economic hardship for energy provider or community, or other circumstance; and

• Substantially Underserved Trust Areas.

d. Part D. Additional Required Forms and Certifications.

In order to establish compliance with other Federal requirements for financial assistance programs, the applicant must execute and submit as parts of the application package the following forms and certifications:

• SF 424B, “Assurances—Non-Construction Programs” or SF 424D, “Assurances—Construction Programs” (as applicable). All applicants applying through Grants.gov must use form SF 424B.

• SF LLL, “Disclosure of Lobbying Activities.” All applicants must file this disclosure form (2 CFR 418.110). The applicant should complete name and address information. If no expenditure indicate $0, “none,” or “not applicable” in the reporting section.

• Form AD-3030 “Representations Regarding Felony Conviction and Tax Delinquent Status for Corporate Applicants” (for corporate applicants only).

• Rural Utilities Service “Certification Regarding Debarment, Suspension and Other Responsibility Matter—Primary Covered Transactions”.

• High Energy Cost Grant Program RUS Environmental Questionnaire. The RUS environmental questionnaire solicits information about project characteristics and site-specific conditions that may involve environmental, historic preservation, and other resources. The information will be used by RUS's environmental staff to determine what, if any, additional environmental impact analyses may be necessary before a final grant award may be approved. A copy of the environmental questionnaire and instructions for completion are included in the Application Guide and may be downloaded from RUS's Web site or under funding opportunity announcement RD-RUS-HECG15 at Grants.gov.

e. Part E. Supplementary Materials (Up to 10 pages).

Applicants may include additional information for reviewers such as letters of support and any other supplementary materials not included as exhibits in the project narrative that support eligibility, or priority considerations. Letters from Congress and senior State Officials will not be counted against the page limitation.

f. SUTA Application Package Contents.

Application contents for entities that have requested SUTA consideration are identical to those for other applicants. The request for SUTA consideration is separate from the application package to be reviewed by the rating panel. See discussion of SUTA above in section C and SUTA regulations at 7 CFR 1700.108 for additional information on what is required in the separate SUTA request.

g. Application Requirements for Applicants Requesting Reconsideration of an Application Submitted in 2014.

The Administrator has determined to use the discretion provided under agency regulations at 7 CFR 1709.122 to consider under this notice unfunded applications submitted in response to the 2014 funding opportunity notice. The application contents and scoring criteria are sufficiently alike, so that reviewers can find all required information in the application package and newly submitted information. Allowing reconsideration reduces burdens on eligible applicant in submitting a new application and on the agency in reviewing applications for eligibility and completeness.

Applicants that submitted applications in response to the notice published on June 2, 2014 (79 FR 31283) and that later were notified by RUS that the application was determined to be eligible and complete but was not selected for an award may request reconsideration of their applications under this notice. To request reconsideration, the applicant must submit a brief signed letter requesting reconsideration and identifying any additional information that they wish to be considered by the rating panel. The Applicant may also submit up to 10 pages of new explanatory or supplementary material to be attached to its application. This may include, for example, updated project budgets or schedules. The request must be accompanied by a new original, signed Standard Form SF-424, “Application for Federal Assistance” and a signed Form AD-3030 “Representations Regarding Felony Conviction and Tax Delinquent Status for Corporate Applicants” (for corporate applicants only).

The required application package for reconsideration will consist of the new signed SF-424, the letter requesting reconsideration, additional information or supporting materials, plus the original application package submitted in 2014 maintained in Agency files. The Agency will add the newly submitted material to the existing application package for review by the rating panel. You do not need to send a copy of the 2014 application package. Required forms are available on our Web site (http://www.rd.usda.gov/programs-services/high-energy-cost-grants) and in the 2015 Application Guide.

Because this abbreviated application reconsideration package differs from the general application package for first time applicants, all requests for reconsideration must be submitted in paper form and sent to RUS at the addresses for paper applications indicated in section D.7 on or before the application deadline. RUS will not accept requests for reconsideration by email or fax. Requests for reconsideration cannot be submitted through Grants.gov. Applicants also have the option of submitting an entirely new 2015 application package under the requirements of this notice.

h. Number of Copies of Submitted Applications.

(1) Paper application packages submitted to RUS must include the original signed application and two (2) copies.

(2) Grant applications may be submitted electronically through Grants.gov. Please carefully read the FY 2015 Application Guide and Special Instructions for Grants.gov applications for additional guidance on submitting an electronic application. Only one submission through Grants.gov is required.

iv. Information That Successful Applicants Must Submit After Notification of Intent To Make a Federal Award

In addition to the information required to be submitted in the application package, RUS may request that successful grant applicants provide additional information, analyses, forms and certifications before the grant agreement is signed and funds are obligated. These may include additional information and analyses for any environmental reviews and clearances under the National Environmental Policy Act (NEPA) (42 U.S.C. 4321-4370h), other statutes, and USDA regulations. The successful applicant may be required to submit additional certifications required under USDA and Government-wide assistance regulations. RUS will advise the applicant in writing of any additional information required.

3. Unique Entity Identifier and System for Award Management (SAM)

The applicant for a grant must supply a Dun and Bradstreet Data Universal Numbering System (DUNS) number as part of an application. The Standard Form 424 (SF-424) contains a field for the DUNS number. The applicant can obtain a DUNS number free of charge by calling Dun and Bradstreet. Please see http://fedgov.dnb.com/webform for more information on how to obtain a DUNS number or how to verify your organization's number.

Before submitting an application, the applicant must register in the System for Award Management (SAM) (formerly Central Contractor Registry (CCR)). Applicants must register for the SAM at https://www.sam.gov/portal/public/SAM/. SAM registration must remain active with current information at all times while RUS is considering an application or while a Federal grant award is active. To maintain SAM registration the applicant must review and update the information in the SAM database annually from the date of initial registration or from the date of the last update. The applicant must ensure that the information in the database is current, accurate, and complete.

4. Submission Dates and Times

Applicants may submit applications on paper directly to the Agency or electronically through Grants.gov.

a. Paper grant applications, including requests for reconsideration and SUTA applications, must be postmarked and mailed, shipped, or sent overnight no later than December 14, 2015 to be eligible for FY 2015 grant funding. RUS will begin accepting applications on the date of publication of this notice. RUS will accept for review all applications postmarked or delivered by this deadline.

For the purposes of determining the timeliness of an application, RUS will accept the following as valid postmarks: The date stamped by the U.S. Postal Service on the outside of the package containing the application delivered by U.S. Mail; the date the package was received by a commercial delivery service as evidenced by the delivery label; the date received via hand delivery to the RUS headquarters. Late applications will not be considered and will be rejected.

RUS will not provide notifications acknowledging receipt of paper applications. Applicants should retain proof of mailing or shipping.

b. Electronic grant applications must be filed with Grants.gov on or before December 14, 2015 to be eligible for FY 2015 funding. RUS uses the date and time an electronic application was posted for submission to Grants.gov to determine timeliness of application submittal. Applications received by Grants.gov after the deadline will not be eligible for FY 2015 grant funding and will be rejected.

Applicants are encouraged to file electronic applications in advance of the deadline. Applicants encountering difficulty filing applications electronically must contact Grants.gov for assistance. Grants.gov will generate a receipt for application filing and for transmittal to USDA. RUS will not issue a separate acknowledgement of receipt. Acceptance of an application by Grants.gov or by the USDA grants warehouse does not constitute acceptance as an eligible and complete application by RUS.

c. If the submission deadline falls on Saturday, Sunday, or a Federal holiday, the application is due the next business day.

5. Intergovernmental Review

The High Energy Cost Grant Program is not subject to Executive Order 12372, “Intergovernmental Review of Federal Programs” as implemented by USDA in 2 CFR part 415. Applications do not have to be submitted to any State agencies for review before submittal.

6. Funding Restrictions

Grant awards and use of High Energy Cost Grant program are subject to certain limitations established by Federal statutes, regulations, and policies. These restrictions may preclude awards or reimbursements to certain applicants or for certain proposed activities.

Grant funds cannot be used for:

(1) Preparation of the grant application; payment of any finder's fees or incentives for assisting in the preparation or submission of an application;

(2) Purchases of fuel or payment of utility bills;

(3) Payment of applicant's planning and administrative costs that are unrelated to the grant project and that exceed 4 percent of each grant award;

(4) Routine maintenance or other operating costs;

(5) Purchase of equipment, structures, or real estate not directly associated with provision of residential energy services;

(6) Project construction costs incurred prior to the date of the grant award, except as provided in 7 CFR 1709.11(d);

(7) Costs of project development and feasibility analyses exceeding 10 percent of total project costs;

(8) Projects that primarily or only consist of educational, outreach, and audit or assessment activities and do not include a substantial investment in physical infrastructure or energy saving improvements;

(9) Projects that primarily benefit a single household or business;

(10) Projects that primarily benefit areas outside of eligible communities;

(11) Research, development, demonstration, or commercialization activities;

(12) Refinancing or repayment of the applicant's outstanding loans or loan guarantees under the Rural Electrification Act of 1936, as amended (7 U.S.C. 901 et seq.);

(13) Funding of political activities;

(14) Payment of any judgment or debt owed to the United States; or

(15) Providing any share or benefit to a member of Congress except as provided in 7 CFR 1709.20.

In addition to the above, RUS may refuse to provide an award or reimbursement where the selected applicant has taken actions in violation of restrictions on certain project activities prior to completion of pre-award environmental review. See section F.2.a of this notice and 7 CFR 1794.15, or its successor.

7. Other Submission Requirements

Grant applications may be submitted on paper or electronically. A completed paper application package must contain all required parts in the order indicated in the above section D.2.iii on “Content and Form of Application Submission” and Table 2. The paper application package must include one original application with original signatures on all forms and certifications and two complete copies.

Format for paper applications and narratives. The completed paper application package should be assembled in the order specified in section D.2.iii and Table 2 with all pages numbered sequentially or by section. Application narratives and attachments should be formatted for 8½ by 11 inch paper (letter size) with 1 inch margins for ease of copying or scanning. Preferred type faces are Times New Roman 12, Calibri 11, Arial 11, Verdana 10, or Courier 10. Narratives may be single or double spaced. It is strongly recommended that Project Narratives be no longer than about 30 pages in length or less (exclusive of required forms Project Summary, Table of Contents and Executive Summary) with up to 10 pages of attachments, excluding letters from Members of Congress, and documents establishing legal existence and authority to enter a grant agreement with the Federal Government. Paper application packages will be scanned and should be printed single-sided on white letter size paper. Failure to follow these instructions may result in rejection of the application.

Format of Electronic applications. Applicants must follow formatting directions, including acceptable file attachment types specified on Grants.gov. Failure to follow the special instructions for electronic applications and Grants.gov guidance for attachments may result in an unreadable or incomplete application which will be rejected.

i. Submission of Paper Application Packages

Completed paper applications, including requests for reconsideration and SUTA requests, must be delivered to the RUS headquarters in Washington, DC, using United States Mail, overnight delivery service, or by hand to the following address: Assistant Administrator, Electric Programs, Rural Utilities Service United States Department of Agriculture, 1400 Independence Avenue SW., STOP 1560, Room 5165 South Building, Washington, DC 20250-1560. Applications should be marked “Attention: High Energy Cost Community Grant Program.”

Applicants are advised that regular mail deliveries to Federal Agencies, especially of oversized packages and envelopes, are frequently delayed by increased security screening requirements that include irradiation which may damage contents. Applicants may wish to consider using Express Mail or a commercial overnight delivery service instead of regular mail. Applicants wishing to hand deliver or use courier services for delivery should contact an RUS representative in advance to arrange for building access. If an applicant wishes to submit such materials, they should contact the Agency Contact listed in section D.1 above for additional information.

ii. Electronic Submission of Application Packages

a. RUS will not accept applications via fax or electronic mail.

b. Electronic applications must be submitted through the Federal government's Grants.gov portal at http://www.grants.gov/.

c. How to use Grants.gov. Grants.gov contains full instructions on all required passwords, credentialing and software.

Electronic Application materials for the High Energy Cost Grant notice can be found by searching under Funding Opportunity Number: RD-RUS-HECG15 or Catalog of Federal Domestic Assistance (CFDA) Number 10.859. In addition to the Grants.gov mandatory forms, applicants must download, complete, and attach specific USDA and High Energy Cost Grant instructions, forms, and certifications to submit a complete electronic application package. Additional forms to be downloaded, completed, and uploaded to the Grants.gov application package include: The RUS “Certification Regarding Debarment, Suspension and Other Responsibility Matter—Primary Covered Transactions,” Form AD-3030 “Representations Regarding Felony Conviction and Tax Delinquent Status for Corporate Applicants” (for corporate applicants only), and the RUS Environmental Questionnaire. Electronic Applications that do not contain these required forms will be rejected as incomplete.

d. Credentials and Authorizations for Electronic Applications.

1. System for Award Management. All applicants must register with the System for Award Management. Submitting an application through Grants.gov requires that your organization list in the System for Award Management (SAM) (formerly Central Contractor Registry, CCR). The Agency strongly recommends that you obtain your organization's DUNS number and SAM listing well in advance of the deadline specified in this notice. See https:\\www.sam.gov for more information on SAM and to register.

2. Credentialing and authorization of applicants. Grants.gov will also require some credentialing and online authentication procedures before you can submit an application. These procedures may take several business days to complete, further emphasizing the need for early action by applicants to complete the sign-up, credentialing and authorization procedures at Grants.gov before you submit an application at that Web site.

3. Some or all of the SAM and Grants.gov registration, credentialing and authorizations require updates. If you have previously registered at Grants.gov to submit applications electronically, please ensure that your registration, credentialing and authorizations are up to date well in advance of the grant application deadline.

e. Difficulties in submitting electronic applications.

RUS encourages applicants who wish to apply through Grants.gov to submit their applications in advance of the deadlines.

If a system problem occurs or you have technical difficulties with an electronic application, please use the customer support resources available at the Grants.gov Web site.

In case of difficulty filing electronically that cannot be resolved, applicants may download application materials and complete forms online through Grants.gov without completing the registration requirements. Application materials prepared online may be printed and submitted in paper to RUS as detailed above.

E. Application Review Information

This section describes the process and application review criteria that the RUS will use to evaluate the eligibility and merit of the applications packages submitted. This notice establishes the criteria and weights to be used and the evaluation process as provided by program regulations at 7 CFR part 1709.

1. Criteria

The Administrator of RUS has established the merit selection and priority consideration criteria for evaluating and scoring the applications submitted under this notice pursuant to program regulations at 7 CFRs 1709.102 and 1709.123. The criteria set forth below will be used by one or more rating panels to be selected by the Assistant Administrator, Electric Programs. Additional information on how scoring criteria will be applied can be found in the FY 2015 Application Guide.

The maximum number of points to be awarded is 100. The maximum points available under project design and technical merit criteria is 65. The maximum number of points to be awarded under priority considerations that support USDA and RUS program priorities is 35.

The evaluation criteria and weights in this notice differ from those used in the 2014 notice. For this reason any 2014 applicant's packages being reconsidered will be rescored according to the criteria in this notice.

Table 3 shows the selection criteria and weights that will be used in scoring the 2015 applications.

Table 3—Project Merit and Priority Consideration Criteria for 2015 NOFA
Project design and technical merit (up to 65 points) | Maximum points
Assessment of Community Needs | 15
Project Design, Technical Feasibility and Responsiveness to Community Needs | 10
Management Plan | 10
Organizational Experience | 5
Key Staff Experience | 5
Project Goals, Objectives and Performance Measures | 3
Project Reporting Plan | 2
Project Budget, Financial Feasibility and Matching Contributions | 10
State, Local, or Tribal Rural Development Initiatives | 5
Priority Considerations (up to 35 points) |
High Poverty Areas Priority | 10
Rurality (Population) | 10
(A) 50 States and Puerto Rico:
1. 2,500 or less, 10 points;
2. Between 2,501 and 5,000, inclusive, 7 points;
3. Between 5,001 and 10,000, inclusive, 5 points;
4. Between 10,001 and 20,000, inclusive, 3 points; and
5. Above 20,000, 0 points.
(B) Virgin Islands and Pacific Insular Areas, 10 points.
Renewable Energy Projects | 5
Extraordinary Circumstances or Conditions | 5
SUTA Applications | 5
Total Points | 100

i. Project Design and Technical Merit Criteria (Up to 65 Points Total)

Reviewers will consider the soundness of applicant's analysis of community needs and benefits, the adequacy of the proposed project plan, the technical feasibility of the project, the adequacy of financial and other resources, the competence and experience of the applicant and its team, project goals and objectives, and performance measures. Project proposals will be evaluated on how well the proposal addresses application content requirements and evaluation criteria and how well their application compares to other applicants. A total of 65 points may be awarded under the following criteria.

a. Assessment of Community Needs (Up to 15 points).

Under this criterion, reviewers will consider the applicant's assessment of community needs and how the grant project addresses those needs and how the severity of identified needs compares to other applications. Reviewers will consider the identification and documentation of eligible communities, their populations, and assessment of community energy needs targeted by the grant project. Information on the severity of physical and economic challenges affecting eligible communities will be considered. Reviewers will weigh: (1) The applicant's analysis of community energy challenges and (2) why the applicant's proposal presents a greater need for Federal assistance than other competing applications. In assessing the applicant's demonstration of community needs, the rating panel will consider information in the narrative proposal addressing the following:

(1) The burden placed on the community and individual households by extremely high energy costs. This burden may be evidenced by such quantitative measures as, for example, total energy expenditures, per unit energy costs, energy cost intensity for occupied space, or energy costs as a share of average household income, and persistence of extremely high energy costs compared to national or statewide averages.

(2) The hardships created by limited access to reliable and affordable energy services;

(3) The availability of other resources to support or supplement the proposed grant funding; and

(4) Indications of community support for the proposed project solution to their energy challenges.

b. Project Design, Technical Feasibility and Responsiveness to Community Needs. (Up to 10 points).

Reviewers will assess the technical and economic feasibility of the project and how well its goals and objectives address the challenges of the extremely high energy cost community. The panel will review the proposed design, construction, equipment, and materials for the community energy facilities in establishing technical feasibility. Reviewers may propose additional conditions on the grant award to assure that the project is technically sound. Reviewers will consider the adequacy of the applicant's budget and resources to carry out the project as proposed and how the applicant proposes to manage available resources such as other grants, program income, and any other financing sources to maintain and operate a financially viable project once the grant period has ended. Reviewers may give higher scores to projects that are substantially ready to proceed with construction or implementation than to those that are early in the project development process.

In this section, the applicant will be awarded points on the technological design of the project. The applicant must provide a narrative description of the project including a proposed scope of work identifying major tasks and proposed schedules for task completion, a detailed description of the equipment, facilities and associated activities to be financed with grant funds, the location of the eligible extremely high energy cost communities to be served, and an estimate of the overall duration of the project. The Project Design description should be sufficiently detailed to support a finding of technical feasibility. Proposed projects involving construction, repair, replacement, or improvement of electric generation, transmission, and distribution facilities must generally be consistent with the standards and requirements for projects financed with loans and loan guarantees under the RE Act as set forth in the Agency's Electric Programs Regulations and Bulletins and may reference these requirements.

c. Management Plan (Up to 10 points).

Reviewers will assess the adequacy of the proposed management plan against the content requirements in this notice and in comparison to the quality of other applications received. Applicants should take care to address all the required content materials. Points will be awarded for robust management plans, and realistic succinct schedules. If the applicant proposes to secure equipment, design, construction, or other services from non-affiliated entities, the applicant must briefly describe how it plans to procure and/or contract for such equipment or services consistent with Federal requirements. Reviewers will award the highest points to applications that fully include all required information and support a finding that the combination of management team's experience, financial management capabilities, resources and project structure will enable successful completion of the project.

d. Organizational Experience (Up to 5 points).

Reviewers will assess the applicant's demonstrated experience in successfully administering and carrying out projects comparable to the grant proposal. In lieu of direct experience, reviewers will consider the efforts applicant has taken to secure the capacity to provide energy services in rural areas. The Agency will consider the experience of the project team and the effectiveness of the program design in compensating for lack of extensive experience. If the applicant has received any HECG funding, or other Federal funding a detailed description of past performance is required in this section. Points will be awarded to organizations with proven track records or that have established a management structure and team with capacity and experience to carry out the project. Points will be awarded based on how well the applicant addressed the content requirements of this notice, the quality of the proposed project organizational capacity and how the proposal compares with other applications.

e. Key Staff Experience (Up to 5 points).

Reviewers will assess the quality and capacity of project team to carry out the proposal. Reviewers will consider whether the key project staff members possess demonstrated experience in successfully administering and carrying out projects that are comparable to the grant proposal. Reviewers may consider whether the project team includes staff or other identified consultants or contractors needed to successfully complete the project. If the applicant proposes to use affiliated entities, contractors, or subcontractors to provide services funded under the grant, reviewers will consider the identities, relationship, qualifications, and experience of these affiliated entities. Points will be awarded based on how well the applicant addressed the requirements in this notice and how the applicant's proposal compares to other applications.

f. Project Goals, Objectives and Performance Measures (Up to 3 points).

Applicants must clearly identify project goals, objectives and performance measures to track the progress and success of their proposed project. Reviewers will assess how well the applicant's plan to evaluate and report on the success and cost-effectiveness of financed activities. Reviewers will consider how well the results obtained measure any benefits to the eligible community such as, for example, energy saved, costs saved or avoided, or renewable energy produced. Reviewers will also assess whether applicant's proposed measures provide a quantitative basis for tracking project success and whether the application provides documentation or references to support its statements about cost-effectiveness savings and improved services. Reviewers will award points based on how well the applicant meets the requirements of the notice, the effectiveness of the proposed measures to monitor performance, and how the application compares against other proposals.

g. Project Reporting Plan (Up to 2 points).

Reviewers will consider applicant's description of the reporting plan and how it contributes to tracking progress and performance and the consequences if project falls behind schedule. Reviewers will assess points based on the adequacy of the plan and how well it compares to other applications.

h. Project Budget, Financial Feasibility and Matching Contributions (Up to 10 points).

Reviewers will consider whether applicant has fully responded to requirements of this notice and whether the narrative, forms and exhibits provide sufficient information to assess the adequacy of the project budget and the financial feasibility of the project.

The budget materials must document that planned administrative and other expenses of the project sponsor that are not directly related to performance of the grant will not total more than 4 percent of grant funds. The application must also identify the source and amount of any other Federal or non-Federal contributions of funds or services that will be used to support completion of the proposed project. Points will be awarded for completeness, realistic budget costs, and feasibility. Reviewers may consider total grant funds requested as a share of total project costs in assessing feasibility. All matching contributions must be clearly identified. No additional points will be awarded for matching contribution. Reviewers will consider them in assessing feasibility and commitment to completing the project. Reviewers will score the proposal based on how well the applicant's budget submission fully complied with requirements of the notice and whether project resources, including the grant request and identified matching contributions, are adequate to complete the project as proposed. Reviewers will also assess how well the applicant's proposal compared with other projects.

i. State, Local, or Tribal Rural Development Initiatives (Up to 5 points).

The reviewing panel will assess how effectively the proposed project is coordinated with State rural development initiatives, if any, and is consistent with and supports these efforts. [Note: The term “State rural development initiatives” refers to State or Tribal programs and USDA Rural Development programs. Go to: http://www.rd.usda.gov/contact-us/state-offices for more information.] The RUS will consider the documentation submitted for coordination efforts, community support and matching contributions, and State or local government recommendations. Applicants should identify the extent to which the project is dependent on or tied to other rural development initiatives, funding, and approvals. Applicants are advised that they should address this criterion explicitly even if only to report that the project is not coordinated with or supporting a State rural development initiative. Failure to address this criterion will result in zero points awarded.

ii. Priority Considerations (up to 35 points total).

In addition to the points awarded for project design and technical merit, all proposals will be reviewed and awarded additional points based on certain characteristics of the project or the target community. USDA Rural Development Mission Area policies generally encourage agencies to give priority in their programs to rural areas of greatest need and to support other Federal policy initiatives. In furtherance of these policies, the RUS will award additional points for the priorities identified in this notice. The priority criteria and point scores used in this notice are consistent with the program regulations in 7 CFR part 1709. The Agency will give priority consideration to areas suffering high poverty, smaller rural and remote communities, projects that support renewable energy, projects serving communities experiencing extraordinary circumstances affecting their ability to provide energy services, and Priority points will also be awarded to applications that the Administrator has accepted for consideration under Substantially Underserved Trust Area regulations at 7 CFR part 1700, subpart D. A maximum of 35 total points may be awarded under the following priority criteria.

a. High Poverty Areas (10 points).

USDA Rural Development is committed to reducing the impacts of high and persistent poverty in rural communities. The economic hardship of extensive and persistent poverty exacerbates the impacts of extremely high energy costs on families and businesses and hampers the community's ability to meet their energy needs. In support of this USDA initiative, we will award 10 priority points for projects that serve communities in counties that are classified as High Poverty or Persistent Poverty by the USDA Economic Research Service “Geography of Poverty” Web page (http://www.ers.usda.gov/topics/rural-economy-population/rural-poverty-well-being/geography-of-poverty.aspx) or that are located in a county with at least one census tract with a poverty rate of 20 percent or more using data from the American Community Survey (ACS) that can easily be accessed through the Census Bureau American Fact Finder Web page (http://factfinder.census.gov/faces/nav/jsf/pages/index.xhtml). Applicants may use other population and income data from the U.S. Census, state, or tribal sources if the ACS does not contain information for their community or project area. In the absence of accurate community information The 2015 Application Guide provides additional details on high poverty areas. Reviewers will award 10 points for any application that serves one or more high poverty areas and that has required supporting population information.

Note on Alternative Economic and Population Data for Eligible Territories and Insular Areas: RUS recognizes that comparable economic and household income information may not be available for eligible areas that are not States. Applicants from these areas should provide any public information that is readily available on territorial or national median household income and local community economic characteristics and other indications of economic challenge posed by extremely high energy costs. Applications from these areas will be scored based on the provided data.

b. Rurality. (Up to 10 points).

Consistent with the USDA Rural Development policy to target resources to smaller rural communities with significant needs and recognizing that smaller and remote communities are often comparatively disadvantaged in seeking assistance, RUS has established a sliding scale for awarding points based on population. RUS has also determined to award the full 10 points to applications from the Virgin Islands and eligible Pacific Insular areas. Reviewers will award additional points based on the rurality (as measured by population) of the project communities to be served with grant funds under one of two options below.

(1) Applications from the Fifty States, and Puerto Rico. Applications from any one of the fifty States, or Puerto Rico, will be scored based on the population of the largest incorporated cities, towns, or villages, or census designated places included within the grant's proposed project area. Points will be awarded on the population of the largest target community within the proposed target area as follows:

(a) 2,500 or less, 10 points;

(b) Between 2,501 and 5,000, inclusive, 7 points;

(c) Between 5,001 and 10,000, inclusive, 5 points;

(d) Between 10,001 and 20,000, inclusive, 3 points; and

(e) Above 20,000, 0 points.

Applicants must use the latest available population figures from the 2010 U.S. Census available at American Fact Finder (http://factfinder.census.gov/faces/nav/jsf/pages/index.xhtml) for every incorporated city, town, or village, or Census designated place included in the project community area.

(2) Applications from the Virgin Islands and Pacific Insular Areas. (10 points).

The priority scoring criteria are intended to carry out Rural Development policy to give priority to areas most challenged by extremely high energy costs and those without access to substantial alternative economic and institutional resources to address these challenges, particularly rural, remote, and substantially-underserved areas. U.S. Census population and economic data have been used as proxy measures for rurality, remoteness, and economic challenges. It has become evident that comparable, up-to-date U.S. Census population and economic information are not easily available or unavailable for communities in the Virgin Islands or Pacific insular areas. After consideration, the RUS has decided to adopt an alternative for scoring eligible applications from these areas. RUS will assign a rurality score of “10” to applications from the Virgin Islands and eligible insular areas in the Pacific. This policy will place these applications on an equal footing with competing applications from other rural and remote areas.

c. Renewable Energy Projects (Up to 5 points).

Reviewers will award up to 5 points for projects that install, upgrade, integrate, or connect renewable energy systems to increase availability of renewable generation in rural communities. This includes, but is not limited to, projects that support deployment of renewable energy technologies through acquisition, installation, improvement, upgrade, or integration of renewable energy for electricity generation, water heating, building or process heating systems, system controls and other smart grid technologies, distribution and transmission upgrades to integrate renewable generation, and energy battery and storage systems tied to renewable energy generation.

d. Extraordinary Conditions or Circumstances (Up to 5 points).

The Administrator in his sole discretion has decided to provide up to 5 points for project applications for communities that exhibit one or more extraordinary conditions or circumstances that affect the community's ability to provide energy services or to make investments to reduce energy use or costs. This priority includes considerations that were recognized separately under prior notices as well as allowing for recognition of other extraordinary circumstances adversely impacting eligible high energy cost communities. The 2015 Application Guide has more detail on situations that may qualify an application for priority points under this criterion. Reviewers may award up to a total of 5 points, based on their assessment of the hardship presented, for the following extraordinary circumstances:

(1) Disaster. The community has suffered a natural or other disaster that affected critical community energy facilities. The application must provide details of when the disaster occurred, the extent of damage, and available resources for disaster recovery, including assistance from other agencies.

(2) Unserved Energy Needs. Consistent with the purposes of the RE Act, projects that meet unserved or underserved energy needs may be awarded points under this criterion. Examples of proposals that may qualify under this priority include projects that extend or improve electric or other energy services to communities and customers that do not have reliable centralized or commercial service or where many homes remain without such service because the costs are unaffordable.

(3) Imminent Hazard. Reviewers may award priority consideration for any applications including a project to correct a condition posing an imminent hazard to public safety, welfare, the environment, or to a critical community or residential energy facility. Examples include community energy facilities in immediate danger of failure because of deteriorated condition, capacity limitations, damage from natural disasters or accidents, or other conditions where impending failure of existing facilities or absence of energy facilities creates a substantial threat to public health or safety, or to the environment.

(4) Extreme Economic Hardship. Reviewers may award additional priority points for projects serving communities with conditions creating a severe economic hardship to the community or the energy provider. The hardship must be adequately described and documented by the applicant. Examples include but are not limited to natural disasters, financially distressed local industry, and loss of major local employer, persistent poverty, outmigration, or other conditions adversely affecting the local economy, or contributing to unserved or underserved energy infrastructure needs that affect the economic health of the community. Applications from eligible areas that are not States will be scored under this alternative using information provided in the Application. The rating panel may assign points under this criterion, in lieu of awarding points based on the percentage of median household income. Award of priority points under this criterion is in addition to any that may be awarded for high poverty counties. Applicants may qualify under this criterion that do not meet the USDA Rural Development high poverty counties priority above.

e. Substantially Underserved Trust Areas (5 points).

Under SUTA regulations at 7 CFR part 1700, subpart D, eligible entities may request special consideration for applications for communities in trust areas that lack adequate levels or quality of service and are in high need of grant assistance. The Administrator, in his sole discretion, has determined, to award 5 points to any application from an eligible SUTA entity for projects serving eligible areas that are also eligible for the High Energy Cost Grant Program. To receive these points, the entity must submit a separate application and request for consideration under SUTA to the Agency on or before the closing date of this opportunity notice December 14, 2015. The Administrator will review the application and issue a letter indicating whether the application is complete and is accepted for consideration under SUTA. The decision to provide SUTA consideration to an eligible application is solely at the discretion of the Administrator.

Reviewers will award 5 points to any project application that has been accepted for consideration under SUTA.

iii. Cost Sharing

There is no requirement for matching contributions under the High Energy Cost Grant Program. The Agency has determined not to make cost contributions a separate scoring criterion. Consideration of matching contributions may be considered by the rating panel in assessing project design, financial capacity to complete the project, budget, and rural development initiative criteria.

2. Review and Selection Process

i. Determining Eligibility

RUS will review all application packages received to determine if they were submitted on or before December 14, 2015. Applications that are not timely submitted will be rejected. All timely received application packages will be reviewed for eligibility and completeness. Project proposals that contain all required application package content in acceptable format and that meet eligibility criteria will be accepted for consideration.

Application packages that are late, incomplete or ineligible will be rejected. Applicants will be notified if they were found to be ineligible when project selections are announced. The determinations on timeliness, completeness and eligibility will be final. The rejection notice will provide information on any appeals.

After the application closing date, RUS will not consider any unsolicited information from the applicant. The Agency may contact the applicant for additional information or to clarify statements in the application required to establish applicant or community eligibility and completeness. The RUS will not accept or solicit any additional information relating to the technical merits and feasibility of the grant proposal after the application closing date.

The Agency will look only at the three page narrative in Part B of the application package to determine if the applicant, community and project meet program eligibility requirements established in this notice and program regulations.

ii. Evaluation and Scoring of Eligible Applications.

The Agency will use one or more rating panels composed of Agency employees to review and score eligible applications. The panel will evaluate and score the applications using the selection criteria and weights established in this notice along with the additional information provided in the 2015 Application Guide. As part of the proposal review and ranking process, panel members may make comments and recommendations for appropriate conditions on grant awards to promote successful performance of the grant or to assure compliance with other Federal requirements. The decision to include panel recommendations on grant conditions in any grant award will be at the sole discretion of the RUS Administrator.

The rating panel members' individual scores for each application will be consolidated with those from other members to create a total score for each application. The panel will forward their individual scores and the ranked list of projects to the Assistant Administrator, Electric Programs for review of consistency with this notice and program regulations. The Assistant Administrator may refer the ranked list or individual project scores back to the rating panel or to an individual member to correct any apparent error or inconsistency (such as awarding a higher number of points than allowed) or for questions about scoring of individual projects. The Assistant Administrator will then prepare a selection memo for the Administrator along with a list of ranked projects.

iii. Review and Selection of Applications

The RUS Administrator will review the rankings and recommendations of the applications provided by the rating panel and consistent with the requirements of this notice. The Administrator may return any application to the rating panel with written instruction for reconsideration if, in his sole discretion, he finds that the scoring of an application is inconsistent with this notice and the directions provided to the rating panel.

Following any adjustments to the project in ranking, as a result of reconsideration, the Administrator will select finalists for grant awards. Administrator will consider projects in rank order taking in to account the applications, the rankings, comments, and recommendations of the rating panel, and other pertinent information, including availability of funds. The Administrator may fund grant requests in rank order to the extent of available funds. Upon consideration of panel recommendations and availability of funds, the Administrator may, in his sole discretion, decide to offer an award of less than the full amount of grant requested by an applicant. The applicant will be notified and offered a partial award. If the applicant declines an award, the offer will be withdrawn. If at any point in the selection process sufficient funds are not available to fund the next ranked project, the Administrator may, in his sole discretion, offer a partial award to the next project, or skip over that project to the next ranking project that can be supported with available funding. The Administrator may in his sole discretion, make additional awards to unfunded applications in rank order if additional funds become available.

Because of the limited amount of funds available, no applicant or project will receive more than one award under this notice. If two projects from the same applicant score high enough to potentially receive funding, the Administrator will select the project with the highest score.

The Administrator may decide based on the recommendations of the rating panel, or in his sole discretion, that a grant award should be made contingent upon the applicant satisfying certain conditions. For example, RUS will not obligate funding for a selected project—such as projects requiring extensive environmental review and mitigation, preparation of detailed site specific engineering studies and designs, or requiring local permitting, or availability of supplemental financing—until any such additional conditions are satisfied and adequate funds remain available. In the event that any selected applicant fails to comply with the all pre-award conditions within the time set by RUS, the award selection will be withdrawn.

3. Notice to Applicants for Certain Grant Awards.

This notice may result in awards where the total Federal share will be greater than the simplified acquisition threshold (See 2 CFR 200.88) on any Federal award under this notice over the period of performance (see 7 CFR 200.88). Therefore, applicants are advised that:

(i) RUS, prior to making a Federal award with a total amount of Federal share greater than the simplified acquisition threshold, is required to review and consider any information about the applicant that is in the designated integrity and performance system accessible through SAM (currently FAPIIS) (see 41 U.S.C. 2313);

(ii) An applicant, at its option, may review information in the designated integrity and performance systems accessible through SAM and comment on any information about itself that a Federal awarding agency previously entered and is currently in the designated integrity and performance system accessible through SAM; and

(iii) RUS will consider any comments by the applicant, in addition to the other information in the designated integrity and performance system, in making a judgment about the applicant's integrity, business ethics, and record of performance under Federal awards when completing the review of risk posed by applicants as described in 2 CFR part 200.

4. Anticipated Announcement and Federal Award Dates

After the Administrator's decision, the RUS will notify successful applicants that they have been selected for a grant award. This selection is subject to continued availability of funds and compliance with all post-award requirements including but not limited to completion of any additional environmental reviews and execution of a grant agreement satisfactory to the RUS. This selection does not bind the Government to making a final grant award. Only an agreement executed by the Administrator will constitute a binding obligation and commitment of Federal funds. Grant funds will not be awarded or disbursed until all requirements have been satisfied and are contingent on the continued availability of funds at the time of the award. The RUS will advise selected applicants of any additional requirements or conditions.

RUS anticipates that award decisions will be made within 6 months of the closing date, depending on availability of funds. Final selection announcements will be posted on our Web site (http://www.rd.usda.gov/programs-services/high-energy-cost-grants).

5. Appeals

After review, the RUS will reject any application package that in its sole discretion is not complete or that does not demonstrate that the applicant, community or project is eligible under the requirements of this NOSA and applicable program regulations. Applicants will be notified in writing of RUS's decision. Applicants may appeal the eligibility rejection pursuant to program regulations on appeals at 7 CFR 1709.6 for the high energy cost grant program. Applicants must appeal in writing to the RUS Administrator within 10 days after the applicant is notified of the determination to reject the application. The appeal must state the basis for the appeal. Appeals must be directed to the Administrator, Rural Utilities Service, United States Department of Agriculture, 1400 Independence Ave. SW., STOP 1500, Washington, DC 20250-1500. The Administrator will review the appeal to determine whether to sustain, reverse, or modify the original determination by the Assistant Administrator. The Administrator's decision shall be final. A written copy of the Administrator's decision will be furnished promptly to the applicant.

F. Federal Award Administration

1. Federal Award Notices

The RUS will notify all applicants in writing whether they have been selected for an award. Successful applicants will be advised in writing of their selection. The receipt of an award selection letter is not a binding award of Federal funds. The selection letter does not authorize the applicant to commence performance under the award. After notification of selection, applicants will have to meet all pre-award requirements under program and other federal regulations and policies. The Agency will advise the applicant of any additional requirements or pre-award conditions. After the pre-award conditions are satisfied, the Agency will send a conditions letter with all project-specific terms and conditions to be included in the grant agreement. After the applicant indicates acceptance of these terms and conditions the Administrator will approve the award and execute the grant agreement.

Successful applicants will be required to sign a grant agreement acceptable to the Agency and complete additional grant forms and certifications required by USDA as part of the process.

Grant funds will not be advanced unless and until the applicant has executed a grant agreement and funds will not be advanced until all conditions have been satisfied in a manner satisfactory to RUS.

2. Administrative and National Policy Requirements

i. Environmental Review and Restriction on Certain Activities

Following the announcement, selected applicants will be required to submit the appropriate environmental review documentation, as outlined in the RUS environmental questionnaire and to prepare and submit any other environmental impact analyses required by RUS Environmental Policies and Procedures (7 CFR part 1794, or its successor). Successful applicants will be advised whether additional environmental review requirements apply to their proposals. These reviews may result in additional project conditions that RUS will include in the grant agreement. Also, as a condition of any award, applicants must agree to comply with conditions imposed on the grant project by any other Federal, State, or Tribal environmental laws and regulations, license, or permit.

In accordance with 7 CFR 1794.15, or its successor, applicants are restricted from taking actions that may have an adverse environmental impact or limit the choice of alternatives being considered until the environmental review process is concluded. If an applicant takes such actions, RUS will not award or advance grant funds. If the proposed grant project involves physical development activities or property acquisition, the applicant is generally prohibited from acquiring, rehabilitating, converting, leasing, repairing or constructing property or facilities, or committing or expending RUS or non-RUS funds for proposed grant activities until the RUS has completed any environmental review in accordance with 7 CFR part 1794 or its successor and determined that no environmental review is required.

ii. Other Federal Requirements

High Energy Cost Grant Program Regulations (7 CFR part 1709), the requirements of this notice, the 2015 Application Guide and accompanying materials establish the appropriate administrative and national policy requirements for awards under this program. These requirements include but are not limited to:

(1) Executing a Grant Agreement acceptable to the Agency;

(2) Signing Form AD-3031 (“Assurance Regarding Felony Conviction or Tax Delinquent Status for Corporate Applicants”) (for corporate applicants only);

(3) Using the forms specified in the Grant Agreement for requesting advances and reimbursements and submitting and maintaining supporting documentation of expenditures and receipts for use of funds awarded under this grant;

(4) Providing quarterly project performance activity reports with required forms specified in the grant agreement until the expiration of the project term;

(5) Ensuring that records are maintained to document all grant supported activities and expenditures and matching contributions;

(6) Providing a final project performance report after completion of construction and one year's worth of operation; and

(7) Complying with policies, guidance, and requirements as described in the following applicable Federal regulations, and any successor regulations:

• 2 CFR part 200, (Office of Management and Budget, Uniform Administrative Requirements, Cost Principles, and Audit Requirements for Federal Awards);

• 2 CFR part 400, (United States Department of Agriculture, Uniform Administrative Requirements, Cost Principles, and Audit Requirements for Federal Awards);

• 2 CFR part 180, (Office of Management and Budget Government-wide Debarment and Suspension (nonprocurement);

• 2 CFR part 416, (United States Department of Agriculture, General Program Administrative Regulations for Grants and Cooperative Agreements to State and Local Governments);

• 2 CFR part 417, (United States Department of Agriculture, Government-wide debarment and suspension (non-procurement);

• 2 CFR part 418 (United States Department of Agriculture, New restrictions on Lobbying);

• 2 CFR part 421 (United States Department of Agriculture, Government-wide requirements for drug-free workplace (grants);

• 7 CFR part 15, subpart A, (United States Department of Agriculture, Nondiscrimination in Federally Assisted Programs of the Department of Agriculture—Effectuation of Title VI of the Civil Rights Act of 1964);

• 7 CFR part 1767 Rural Utilities Service, (Accounting Requirements for RUS Electric Borrowers); and

• 7 CFR part 1773 Rural Utilities Service, (Policy on Audits of RUS Borrowers).

Compliance with additional OMB Circulars or government-wide regulations may be specified in the grant agreement.

3. Reporting

i. The grantee must provide periodic financial and performance reports under USDA grant regulations, program rules and the grant agreement. The grantee must submit a final project performance report. The nature and frequency of required reports is established in USDA grant regulations and the project-specific grant agreements.

ii. The applicant must have the necessary processes and systems in place to comply with the reporting requirements for first-tier sub-awards and executive compensation under the Federal Funding Accountability and Transparency Act of 2006 in the event the applicant receives funding unless such applicant is exempt from such reporting requirements pursuant to 2 CFR 170.110(b). The reporting requirements under the Transparency Act pursuant to 2 CFR part 170 are as follows:

(a) First Tier Sub-Awards of $25,000 or more in non-Recovery Act funds (unless they are exempt under 2 CFR part 170) must be reported by the Recipient to http://www.fsrs.gov no later than the end of the month following the month the obligation was made. Please note that currently underway is a consolidation of eight Federal procurement systems, including the Sub-award Reporting System (FSRS), into one system, the System for Award Management (SAM). As a result, the FSRS will soon be consolidated into and accessed through https://www.sam.gov/portal/public/SAM/.

(b) The Total Compensation of the Recipient's Executives (5 most highly compensated executives) must be reported by the Recipient (if the Recipient meets the criteria under 2 CFR part 170) to https://www.sam.gov/portal/public/SAM/ by the end of the month following the month in which the award was made.

(c) Total Compensation of the Subrecipient's Executives.

The Total Compensation of the Subrecipient's Executives (5 most highly compensated executives) must be reported by the Subrecipient (if the Subrecipient meets the criteria under 2 CFR part 170) to the Recipient by the end of the month following the month in which the subaward was made.

(d) If the total value of the Recipient's currently active grants, cooperative agreements, and procurement contracts from all Federal awarding agencies exceeds $10,000,000 for any period of time during the period of performance of this Federal award, then during that period of time the Recipient must maintain the currency of information reported to SAM that is made available in the designated integrity and performance system (currently the Federal Awardee Performance and Integrity Information System (FAPIIS)) about civil, criminal, or administrative proceedings as outlined further in 2 CFR part 200, Appendix XII.

G. Federal Awarding Agency Contact

The RUS Contact for this grant announcement is Robin Meigel, Finance Specialist, Rural Utilities Service, Electric Program, Office of Portfolio Management and Risk Assessment, United States Department of Agriculture, 1400 Independence Avenue SW., STOP 1568, Room 1274-S, Washington, DC 20250-1568. Telephone (202) 720-9452, Fax (202) 720-1401, email: Robin.Meigel@wdc.usda.gov.

H. Other Information

1. Disclosure of Information

All material submitted by the applicant or grantee may be made available to the public in accordance with the Freedom of Information Act (5 U.S.C. 552) and USDA's implementing regulations at 7 CFR part 1.

In addition, in compliance with statutory requirements for Federal spending transparency, USDA will announce all Federal awards publicly and publish the required information on a publicly available OMB-designated government-wide Web site (at time of publication, www.USAspending.gov) (2 CFR 200.211).

2. Civil Rights

i. USDA Non-Discrimination Statement

USDA prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by USDA. (Not all prohibited bases will apply to all programs and/or employment activities.)

ii. How To File a Complaint

If you wish to file an employment complaint, you must contact your agency's EEO Counselor within 45 days of the date of the alleged discriminatory act, event, or in the case of a personnel action. Additional information can be found online at http://www.ascr.usda.gov/complaint_filing_file.html.

If you wish to file a Civil Rights program complaint of discrimination, complete the USDA Program Discrimination Complaint Form (PDF), found online at http://www.ascr.usda.gov/complaint_filing_cust.html or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

iii. Persons With Disabilities

Individuals who are deaf, hard of hearing or have speech disabilities and that wish to file either an EEO or program complaint may contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: September 10, 2015.
Brandon McBride,
Administrator, Rural Utilities Service.

[FR Doc. 2015-25975 Filed 10-9-15; 8:45 am]

BILLING CODE P